Proclamation 7966 of November 28, 2005

National Pearl Harbor Remembrance Day, 2005

By the President of the United States of America

A Proclamation

On National Pearl Harbor Remembrance Day, we pray for those lost on December 7, 1941, and we honor the courage of a generation of Americans who devoted themselves to one of the great missions in our country's history. After the surprise attack on Pearl Harbor took more than 2,400 American lives, millions of our citizens answered the call to defend our liberty, and the world witnessed the power of freedom to overcome tyranny.

Liberty's ultimate triumph was far from clear in the early days of World War II. When our country was attacked at Pearl Harbor, America was emerging from the Great Depression, and several nations had larger armies than the United States. In Asia and Europe, country after country had fallen before the armies of militaristic tyrants. However, the brave and determined men and women of our Nation maintained their faith in the power of freedom and democracy. They fought and won a world war against two of the most ruthless regimes the world has ever known. In the years since those victories, the power of freedom and democracy has transformed America's enemies in World War II into close friends.

Today, our goal is to continue to spread freedom and democracy and to secure a more peaceful world for our children and grandchildren. We are grateful to the men and women who are defending our flag and our freedom in the first war of the 21st century. These patriots are protecting our country and our way of life by upholding the tradition of honor, bravery, and integrity demonstrated by those who fought for our Nation in World War II. The service and sacrifice of our World War II veterans continue to inspire people across our country, and we remain deeply grateful for all that these heroes have done for the cause of freedom.

The Congress, by Public Law 103-308, as amended, has designated December 7 of each year as “National Pearl Harbor Remembrance Day.”

NOW, THEREFORE, I, GEORGE W. BUSH, President of the United States of America, do hereby proclaim December 7, 2005, as National Pearl Harbor Remembrance Day. I encourage all Americans to observe this solemn occasion with appropriate ceremonies and activities. I urge all Federal agencies, interested organizations, groups, and individuals to fly the flag of the United States at half-staff this December 7 in honor of those who died as a result of their service at Pearl Harbor.

IN WITNESS WHEREOF, I have hereunto set my hand this twenty-eighth day of November, in the year of our Lord two thousand five, and of the Independence of the United States of America the two hundred and thirtieth.

B

[FR Doc. 05-23550

Filed 11-29-05; 9:09 am]

Billing code 3195-01-P